OFFICE OF MANAGEMENT AND BUDGET

Request for Comments on Data Center Optimization Initiative

AGENCY: Office of Management and Budget.

ACTION: Notice of public comment period.

SUMMARY: The Office of Management and Budget (OMB) is seeking public comment on a draft memorandum titled, “Data Center Optimization Initiative”.

DATES: The 30-day public comment period on the draft memorandum begins on the day it is published in the Federal Register and ends April 1, 2016.

ADDRESSES: Interested parties may submit comments and feedback for 30 days, by the deadline listed on https://datacenters.cio.gov.

FOR FURTHER INFORMATION CONTACT: Mr. Sean Casey, OMB, at Sean_C_Casey@omb.eop.gov and OFCIO@omb.eop.gov.

SUPPLEMENTARY INFORMATION: The Office of Management and Budget (OMB) is proposing a new policy to update the Federal policy on data center management and optimization, formerly established by the FDCCI. This memorandum is required under the Federal Information Technology Oversight and Reform Act (FITARA). This draft policy improves upon metrics for measuring successful management of data centers; sets Federal governmentwide 3-year targets for those metrics, closures, and cost savings to be achieved from data centers; and takes steps to further Federal incorporation of cloud alternatives. Authority for this notice is granted under the Clinger-Cohen Act, 40 U.S.C. Subtitle III.

Tony Scott,
Administrator, Office of the Federal Chief Information Officer.

[FR Doc. 2016-04601 Filed 3-1-16; 8:45 am]

BILLING CODE 3110-05-P